DEPARTMENT OF TRANSPORTATION

Federal Aviation Administration

14 CFR Part 71

[Docket No. FAA-2014-0220; Airspace Docket No. 14-AEA-5]

Establishment of Class D Airspace and Amendment of Class E Airspace; Blackstone, VA

AGENCY: Federal Aviation Administration (FAA), DOT.

ACTION: Final rule.

SUMMARY: This action establishes Class D airspace and amends Class E airspace at Blackstone, VA, to accommodate the new air traffic control tower at Allen C Perkinson Blackstone Army Airfield. Controlled airspace is necessary for the safety and management of instrument flight rules (IFR) operations at the airfield. This action updates the geographic coordinates of the airfield's Class E airspace, and adds exclusion of Restricted area airspace in Class D airspace.

DATES: Effective 0901 UTC, November 13, 2014. The Director of the Federal Register approves this incorporation by reference action under title 1, Code of Federal Regulations, part 51, subject to the annual revision of FAA Order 7400.9 and publication of conforming amendments.

ADDRESSES: FAA Order 7400.9Y, Airspace Designations and Reporting Points, and subsequent amendments can be viewed on line at http://www.faa.gov/airtraffic/publications/. The Order is also available for inspection at the National Archives and Records Administration (NARA). For information on the availability of this material at NARA, call 202-741-6030, or go to http://www.archives.gov/federal_register/code_of_federal-regulations/ibr_locations.html.

FAA Order 7400.9, Airspace Designations and Reporting Points, is published yearly and effective on September 15. For further information, you can contact the Airspace Policy and ATC Procedures Group, Federal Aviation Administration, 800 Independence Avenue SW., Washington, DC 29591; telephone: 202-267-8783.

FOR FURTHER INFORMATION CONTACT: John Fornito, Operations Support Group, Eastern Service Center, Federal Aviation Administration, P.O. Box 20636, Atlanta, Georgia 30320; telephone (404) 305-6364.

SUPPLEMENTARY INFORMATION:

History

On May 23, 2014, the FAA published in the Federal Register a notice of proposed rulemaking (NPRM) to establish Class D airspace and amend Class E airspace at Allen C Perkinson Blackstone Army Airfield, Blackstone, VA, (79-29696). Interested parties were invited to participate in this rulemaking effort by submitting written comments on the proposal to the FAA. No comments were received.

Class D and E airspace designations are published in Paragraphs 5000 and 6005, respectively, of FAA Order 7400.9Y, dated August 6, 2014, and effective September 15, 2014, which is incorporated by reference in 14 CFR 71.1. The Class D and E airspace designations listed in this document will be published subsequently in the Order.

The Rule

This amendment to Title 14, Code of Federal Regulations (14 CFR) part 71 establishes Class D airspace within a 4.2-mile radius of Allen C Perkinson Blackstone Army Airfield, Blackstone, VA, and amends Class E airspace extending upward from 700 feet above the surface within a 6.7-mile radius of the airfield, to support the operation of the new air traffic control tower. Also, the geographic coordinates of the airfield are adjusted to be in concert with the FAA's aeronautical database.

Additionally, this action amends the Class D description by adding the exclusion of that airspace within Restricted Area R-6602A and the Pickett 1 and 2 Military Operations Areas during the time those areas are active. Provisions to ensure the deconfliction between military activities and arrivals and departures at Allen C. Perkinson Blackstone Army Airfield will be specified in a Letter of Agreement between Air Traffic Control and the military using agencies.

Except for the changes noted above, this rule is the same as published in the NPRM.

The FAA has determined that this regulation only involves an established body of technical regulations for which frequent and routine amendments are necessary to keep them operationally current, is non-controversial and unlikely to result in adverse or negative comments. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it adds and amends controlled airspace at Allen C. Perkinson Blackstone Army Airfield, Blackstone, VA.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9Y, Airspace Designations and Reporting Points, dated August 6, 2014, and effective September 15, 2014, is amended as follows:

Paragraph 5000 Class D airspace.

* * * * *

AEA VA D Blackstone, VA [NEW]

Allen C Perkinson Blackstone Army Airfield, VA

(Lat. 37°04′29″ N., long. 77°57′24″ W.)

That airspace extending upward from the surface up to and including 2,500 feet MSL within a 4.2-mile radius of Allen C Perkinson Blackstone Army Airfield; excluding that airspace within Restricted area R-6602A, Pickett 1 Military Operations Area, and Picket 2 Military Operations Area, when active. This Class D airspace area is effective during specific dates and times established in advance by a Notice to Airmen. The effective date and time will thereafter be continuously published in the Airport/Facility Directory.

Paragraph 6005 Class E airspace areas extending upward from 700 feet or more above the surface of the earth.

* * * * *

AEA VA E5 Blackstone, VA [AMENDED]

Allen C Perkinson Blackstone Army Airfield, VA

(Lat. 37°04′29″ N., long. 77°57′24″ W.)

That airspace extending upward from 700 feet above the surface within a 6.7-mile radius of Allen C Perkinson Blackstone Army Airfield.

Issued in College Park, Georgia, on September 8, 2014.
Myron A. Jenkins,
Manager, Operations Support Group, Eastern Service Center, Air Traffic Organization.

[FR Doc. 2014-21912 Filed 9-15-14; 8:45 am]

BILLING CODE 4910-13-P